NUCLEAR REGULATORY COMMISSION

[Docket No. 50-285]

Omaha Public Power District; Notice of Withdrawal of Application for Amendment to Facility Operating License

The U.S. Nuclear Regulatory Commission (the Commission) has granted the request of Omaha Public Power District (the licensee) to withdraw its January 30, 1998, application for proposed amendment to Facility Operating License No. DPR-40 for the Fort Calhoun Station, Unit 1, located in Washington County, Nebraska.

The Commission had previously issued a Notice of Consideration of Issuance of Amendment published in the Federal Register on April 8, 1998 (63 FR 17226). However, by letter dated January 24, 2000, the licensee withdrew the proposed change.

For further details with respect to this action, see the application for amendment dated January 30, 1998, and the licensee's letter dated January 24, 2000, which withdrew the application for license amendment. The above documents are available for public inspection at the Commission's Public Document Room, the Gelman Building, 2120 L Street, NW., Washington, DC, and accessible electronically through the ADAMS Public Electronic Reading Room link at the NRC Web site ­ (http://www.nrc.gov).

Dated at Rockville, Maryland, this 29th day of February 2000.
For the Nuclear Regulatory Commission.
L. Raynard Wharton,
Project Manager, Section 2, Project Directorate IV and Decommissioning, Division of Licensing Project Management, Office of Nuclear Reactor Regulation.

[FR Doc. 00-5338 Filed 3-3-00; 8:45 am]

BILLING CODE 7590-01-P